DEPARTMENT OF COMMERCE

Submission for OMB Review; Proposed Revised Information Collection Comment Request; Limited Access Death Master File Subscriber Certification Form

The Department of Commerce will submit to the Office of Management and Budget (OMB) for clearance the following proposal for collection of information under the provisions of the Paperwork Reduction Act (44 U.S.C. Chapter 35).

Agency: National Technical Information Service, Commerce.

Title: Limited Access Death Master File Subscriber Certification Form (Certification Form).

OMB Control Number: 0692-0013.

Form Number(s): NTIS FM161.

Type of Request: Revised information collection.

Number of Respondents: NTIS expects to receive approximately 560 applications for certification or renewal of certification every year for access to the Limited Access Death Master File.

Average Hours per Response: 2.5 hours.

Burden Hours: 1400 (560 applications × 2.5 hours = 1400 hours).

Needs and Uses: NTIS issued a final rule establishing a program through which persons may become eligible to obtain access to Death Master File (DMF) information about an individual within three years of that individual's death. The final rule was promulgated under Section 203 of the Bipartisan Budget Act of 2013, Public Law 113-67 (Act). The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS. Initially, on March 26, 2014, NTIS promulgated an interim final rule, establishing a temporary certification program (79 FR 16668) for persons who seek access to the Limited Access DMF. Subsequently, on December 30, 2014, NTIS issued a notice of proposed rulemaking (79 FR 78314). NTIS adjudicated the comments received, and, on June 1, 2016, published a final rule (81 FR 34822).

NTIS created the Certification Form used with the interim final rule for Persons and Certified Persons to provide information to NTIS describing the basis upon which they are seeking certification. In the notice of proposed rulemaking, NTIS discussed proposed revisions to the Certification Form (79 FR 78314 at 78320-21). The final rule requires that Persons and Certified Persons provide additional information to improve NTIS's ability to determine whether a Person or Certified Person meets the requirements of the Act (81 FR 34882).

Affected Public: Members of the public seeking certification or renewal of certification for access to the Limited Access Death Master File under the final rule for the “Certification Program for Access to the Death Master File.”

Frequency: Once a year.

Respondent's Obligation: Mandatory for any Person seeking certification or renewal of certification for access to the Limited Access DMF.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2016-28243 Filed 11-22-16; 8:45 am]

BILLING CODE 3510-13-P